DEPARTMENT OF COMMERCE

Patent and Trademark Office

[Docket No. PTO-P-2021-0057]

Events for the Artificial Intelligence and Emerging Technologies Partnership

AGENCY: United States Patent and Trademark Office, Department of Commerce.

ACTION: Notice of meetings.

SUMMARY: The United States Patent and Trademark Office (USPTO) is focused on incentivizing more innovation, inclusively and in key technology areas such as artificial intelligence (AI) and other emerging technologies (ET) (e.g., quantum computing, synthetic biology, blockchain, precision medicine, and virtual reality), protecting that innovation and bringing it to impact to enhance our country's economic prosperity and national security and to solve world problems. In recent years, the USPTO has actively engaged its stakeholders regarding AI/ET. The USPTO has promoted the importance of intellectual property (IP) rights as an incentive to foster and protect innovation in these critical areas. To expand and scale these efforts, the USPTO seeks to form a partnership (AI/ET Partnership) with the AI and ET communities, including, for example, academia, independent inventors, small businesses, industry, other government agencies, nonprofits, and civil society. The AI/ET Partnership will provide an opportunity to bring stakeholders together through a series of engagements to share ideas, feedback, experiences, and insights on the intersection of IP and AI/ET. Through this notice, the USPTO announces a series of meetings exploring AI/ET-related initiatives at the USPTO and IP policy issues impacted by AI and other ET.

FOR FURTHER INFORMATION CONTACT: Matthew Sked, Senior Legal Advisor, Office of Patent Legal Administration, at 571-272-7627. You can also send inquiries to AIPartnership@uspto.gov.

SUPPLEMENTARY INFORMATION:

I. Background on the AI/ET Efforts at the USPTO: While AI has the potential to provide tremendous societal and economic benefits and foster a new wave of innovation and creativity, the USPTO recognizes it poses novel challenges and opportunities for IP policy. To this end, in January 2019, the USPTO hosted a conference regarding the IP policy considerations of AI. The event consisted of six panels of IP specialists from around the world discussing the impact of AI in such areas as patents, trade secrets, trademarks, and copyright. Recordings of the event are available at www.uspto.gov/about-us/events/artificial-intelligence-intellectual-property-policy-considerations.

Continuing its outreach to stakeholders, the USPTO issued a request for public comments in August 2019 on patenting AI inventions. Particularly, the notice sought comments on various patent policy issues, such as AI's impact on inventorship, subject matter eligibility, written descriptions, enablement, and the level of ordinary skill in the art. 84 FR 44889. In October 2019, the USPTO issued a second request for comments on additional IP policy and AI topics, such as copyright, trademarks, data protections, and trade secret law. 84 FR 58141. The USPTO received numerous comments on both notices from a wide range of stakeholders, including individuals, associations, corporations, law firms, academics, and foreign IP offices. The requests for comments and the public comments received are available at www.uspto.gov/initiatives/artificial-intelligence/artificial-intelligence-reports.

In response to the public comments, the USPTO published a report titled “Public Views on Artificial Intelligence and Intellectual Property Policy” in October 2020. The report takes a comprehensive look at a wide variety of stakeholder views on the impact of AI across the IP landscape and provides AI context, legal background, and public comment synthesis for each of the questions presented in the two requests for comments. The USPTO has used the report to focus on issues for continued exploration and stakeholder engagement to bolster the understanding and reliability of IP rights for AI and other ET. The full report is available at www.uspto.gov/sites/default/files/documents/USPTO_AI-Report_2020-10-07.pdf.

Also in October 2020, the USPTO issued a report titled “Inventing AI: Tracing the diffusion of artificial intelligence with U.S. patents.” This report sought to gauge the volume and potential impact of AI innovation through patent data. The report found that AI is increasingly important for invention, and it diffuses broadly across technologies, inventor-patentees, organizations, and geography. Particularly, AI patent applications increased by more than 100% from 2002-2018 and spread to over 42% of all technology subclasses by 2018. The full report is available at www.uspto.gov/sites/default/files/documents/OCE-DH-AI.pdf. The AI patent dataset that was the basis of the report is also available to the public at www.uspto.gov/ip-policy/economic-research/research-datasets/artificial-intelligence-patent-dataset. This novel dataset can help researchers, policymakers, and the public explore the growing role of AI in invention.

More recently, in July 2021, in response to a request by Senators Thom Tillis, Tom Cotton, Mazie Hirono, and Chris Coons, the USPTO published a request for information to solicit views from stakeholders on the impact of the current state of patent subject matter eligibility jurisprudence on investment and innovation in critical technologies. 86 FR 36257. These critical technologies include quantum computing, AI, precision medicine, diagnostic methods, and pharmaceutical treatments. The USPTO will use the comments received in response to this request as the basis for a report to Congress on the topic. The request for information and the public comments received are available at www.regulations.gov/docket/PTO-P-2021-0032/document.

In addition, the USPTO recently hosted several events regarding AI and ET. In April 2021, for example, the USPTO held a virtual AI and ET small business event to foster collaboration, networking, and business partnerships in the AI and ET space. Additionally, in October 2021, the USPTO hosted a joint conference with the U.S. Copyright Office titled “Copyright law and machine learning for AI: where are we and where are we going?,” which explored existing copyright laws and policies as they apply to machine learning, as well as potential alternative solutions in this space.

These engagements support and align with the National AI Initiative Act of 2020, which became law on January 1, 2021. The purpose of the National AI Initiative is to ensure continued U.S. leadership in AI research and development and the use of trustworthy AI systems in the public and private sectors; prepare the present and future U.S. workforce for the integration of AI systems across all sectors of the economy and society; and coordinate ongoing AI research, development, and demonstrations among the civilian agencies, the Department of Defense, and the Intelligence Community to ensure that each informs the work of the others. To continue its support for the National AI Initiative, the USPTO is creating a partnership with the AI/ET community, including, for example, academia, independent inventors, small businesses, industry, other government agencies, nonprofits, and civil society.

II. Formation of the AI/ET Partnership: To build on its previous efforts to encourage innovation, creativity, and entrepreneurship in AI and other ET and promote predictable and reliable IP rights for these technologies, the USPTO announces the formation of the AI/ET Partnership. The AI/ET Partnership will be an ongoing, cooperative effort between the USPTO and the AI/ET community to explore various issues resulting from the intersection of ET, including AI, and IP policy. In particular, the USPTO seeks to engage the AI/ET community on ongoing and future AI/ET efforts at the USPTO to promote greater awareness, openness, and inclusivity. These efforts include the USPTO's use of AI and ET within the agency to further its goals of enhancing the quality and efficiency of patent and trademark examination. Additionally, the USPTO seeks to better understand the public's views on the IP policy issues that uniquely affect the AI/ET community to help inform the USPTO's future work in the AI/ET IP policy space. The AI/ET Partnership will commence with a series of meetings exploring AI/ET-related initiatives at the USPTO and IP policy issues impacted by AI and other ET. Further information on the AI/ET Partnership, future events, and participation in these events is available on the AI/ET Partnership web page at www.uspto.gov/aipartnership.

III. AI/ET Meeting Series: The AI/ET Partnership will begin with a series of virtual events. The inaugural event will explore various patent policy issues including subject matter eligibility, inventorship, and disclosure practice. Future events will engage stakeholders on other IP policy issues and USPTO efforts in the AI/ET space.

The USPTO will hold the inaugural Partnership meeting virtually on June 29, 2022, from 1:00 p.m. to 4:45 p.m. ET. For registration and further information on the AI/ET Partnership series, please visit the AI/ET Partnership web page at www.uspto.gov/aipartnership.

Katherine K. Vidal,
Under Secretary of Commerce for Intellectual Property and Director of the United States Patent and Trademark Office.

[FR Doc. 2022-12139 Filed 6-6-22; 8:45 am]

BILLING CODE 3510-16-P